NUCLEAR REGULATORY COMMISSION

[Docket No. 72-25]

Foster Wheeler Environmental Corporation's Proposed Idaho Spent Fuel Facility; Notice of Availability of Final Environmental Impact Statement

AGENCY: Nuclear Regulatory Commission.

ACTION: Notice of Availability of Final Environmental Impact Statement.

SUMMARY: Notice is hereby given that the U.S. Nuclear Regulatory Commission (NRC) is issuing a Final Environmental Impact Statement (FEIS), “Environmental Impact Statement for the Proposed Idaho Spent Fuel Facility at the Idaho National Engineering and Environmental Laboratory in Butte County, Idaho,” NUREG-1773, January 2004. This FEIS was prepared to evaluate the environmental impacts of the Foster Wheeler Environmental Corporation (FWENC) proposal to construct and operate an independent spent fuel storage installation as described in it's license application dated November 19, 2001, and docketed on June 27, 2002 (67 FR 43358). If approved, the proposed facility would be licensed in accordance with NRC regulations found at 10 CFR Part 72.

The FEIS discusses the purpose and need for the proposed facility and reasonable alternatives to the proposed action, including the no-action alternative. The FEIS also discusses the environment potentially affected by the proposed facility, presents and compares the potential environmental impacts resulting from the proposed action and its alternatives, and identifies mitigation measures that could eliminate or lessen the potential environmental impacts.

The FEIS is being issued as part of the NRC's decision-making process on whether to issue a license to FWENC. Based on the evaluation in the FEIS, the NRC environmental review staff have concluded that the proposed action will have small effects on the public and existing environment. This FEIS reflects the final analysis of environmental impacts of FWENC's proposal and it's alternatives, including the consideration of public comments received by the NRC. In addition, the FEIS provides summaries of the substantive public comments on the draft EIS, and responses, as appropriate.

ADDRESSES: The NRC maintains an Agencywide Documents Access and Management System (ADAMS), which provides text and image files of NRC's public documents. The FEIS and its appendices may be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737, or by email to pdr@nrc.gov. The FEIS is also available for inspection at the Commission's Public Document Room, U.S. NRC's Headquarters Building, 11555 Rockville Pike (first floor), Rockville, Maryland. Upon written request and to the extent supplies are available, a single copy of the FEIS can be obtained for a fee by writing to the Office of the Chief Information Officer, Reproduction and Distribution Services Section, U.S. Nuclear Regulatory Commission, Washington, DC 20555-0001; by electronic mail at DISTRIBUTION@nrc.gov; or by fax at (301) 415-2289.

Information and documents associated with the Idaho Spent Fuel Facility project may also be obtained from the Internet on NRC's Idaho Spent Fuel Facility Web page: http://www.nrc.gov/waste/spent-fuel-storage.html (case sensitive).

FOR FURTHER INFORMATION CONTACT: For environmental review questions, please contact Matthew Blevins at (301) 415-7684. For questions related to the safety review or overall licensing of the Idaho Spent Fuel Facility, please contact Randall Hall at (301) 415-1336.

SUPPLEMENTARY INFORMATION: A Settlement Agreement dated October 17, 1995, among the Department of Energy (DOE), the U.S. Navy, and the State of Idaho requires, among other things, the transfer and dry storage of spent nuclear fuel (SNF) until it can be removed from Idaho. As part of it's efforts to meet the Settlement Agreement, the DOE has contracted with FWENC to design, license, construct, and operate the proposed Idaho Spent Fuel Facility for portions of the SNF currently in storage at the Idaho National Environmental and Engineering Laboratory (INEEL). Subsequently, FWENC submitted a license application to the NRC for the receipt, transfer, and storage of SNF at the proposed facility. The proposed facility would provide the ability to remove the SNF from existing canisters, place it in specially designed storage containers, then seal and place the loaded containers into interim storage. The new containers are designed to be compatible with transportation systems and with future permanent disposal systems. The proposed facility would store SNF and associated radioactive material from the Peach Bottom Unit 1 High-Temperature Gas-Cooled Reactor, the Shippingport Atomic Power Station, and various Training, Research, and Isotope reactors built by General Atomics (TRIGA) reactors. The majority of this SNF is currently in storage at the Idaho Nuclear Technology Center located on the INEEL immediately adjacent to the proposed facility. DOE plans to transfer the SNF to the proposed facility using existing INEEL and DOE procedures. The transfers from DOE to the proposed facility would take place completely within the boundaries of the INEEL. Upon arrival at the proposed facility, the SNF would be (1) remotely removed from the containers in which it is currently stored, (2) visually inspected, (3) inventoried, (4) placed into new storage canisters, and (5) placed into interim dry storage.

The FEIS for the proposed Idaho Spent Fuel Facility was prepared by the staff of the NRC and its contractor, Center for Nuclear Waste Regulatory Analyses, in compliance with the National Environmental Policy Act (NEPA), and the NRC's regulations for implementing NEPA (10 CFR part 51). The proposed action involves a decision by NRC of whether to issue a license under the provisions of 10 CFR part 72 that would authorize FWENC to receive, transfer, and store SNF and associated radioactive materials at the proposed facility.

The NRC published a Notice of Intent to prepare an environmental impact statement (EIS) for the proposed Idaho Spent Fuel Facility and to hold a public scoping period in the Federal Register on July 26, 2002 (67 FR 48953). The NRC accepted scoping comments through September 16, 2002, and subsequently issued a Scoping Summary Report on December 2, 2002. The NRC published a draft EIS on June 26, 2003, and provided an opportunity to comment until August 18, 2003 (68 FR 38105, 68 FR 39940).

The FEIS describes the proposed action and alternatives to the proposed action, including the no-action alternative. The FEIS assesses the impacts of the proposed action and its alternatives on human health, air quality, water resources, waste management, geology, noise, ecology, land use, cultural resources, socioeconomics, accident impacts, and environmental justice. Additionally, the FEIS analyzes and compares the costs and benefits of the proposed action.

After weighing the impacts, costs, and benefits of the proposed action and comparing alternatives (see Sections 2.6, 4.15, and 7 of the FEIS), the NRC staff, in accordance with 10 CFR 51.91 (d), sets forth its final NEPA recommendation regarding the proposed action. The NRC staff recommend that, unless safety issues mandate otherwise, the action called for is the issuance of the proposed license to FWENC. In this regard, the NRC staff concludes (i) the applicable environmental monitoring program described in Section 6 of the FEIS, and (ii) the proposed mitigation measures discussed in Section 5 of the FEIS would eliminate or substantially lessen any potential adverse environmental impacts associated with the proposed action.

The NRC staff has concluded that the overall benefits of the proposed Idaho Spent Fuel Facility outweigh the disadvantages and costs, based on consideration of the following:

—The proposed Idaho Spent Fuel Facility will have small impacts on the physical environment and human communities in the vicinity. Long-term impacts of the no-action alternative are likely to be similar to the impacts of the proposed action.

—The proposed action is designed to support the INEEL mission and comply with agreements and commitments negotiated by DOE, including the 1995 Settlement Agreement among DOE, the State of Idaho, and the U.S. Navy to remove SNF from Idaho by 2035.

—Currently, most of the SNF to be received by the proposed Idaho Spent Fuel Facility is stored at the Idaho Nuclear Technology Center. Transfer distances from current storage locations to the proposed facility are relatively short.

—The current storage configuration does not prepare the SNF for shipment from INEEL to a national HLW repository.

NRC staff in the Spent Fuel Project Office are currently completing the licensing and safety review of FWENC's proposed action. The final licensing decision is currently scheduled for the Spring of 2004.

Dated at Rockville, Maryland, this 3rd day of February 2004.
For the Nuclear Regulatory Commission.
Lawrence E. Kokajko,
Chief, Environmental and Performance Assessment Branch, Division of Waste Management, Office of Nuclear Material Safety and Safeguards.

[FR Doc. E4-413 Filed 2-26-04; 8:45 am]

BILLING CODE 7590-01-P